DEPARTMENT OF THE TREASURY

Internal Revenue Service

[REG-109367-06]

26 CFR Part 1

RIN 1545-BF52

Section 1221(a)(4) Capital Asset Exclusion for Accounts and Notes Receivable; Hearing

AGENCY: Internal Revenue Service (IRS), Treasury.

ACTION: Notice of public hearing on proposed rulemaking.

SUMMARY: This document provides a notice of a hearing on the proposed regulations under section 1221(a)(4) of the Internal Revenue Code.

DATES: The hearing will be held on Wednesday, August 22, 2007 at 10 a.m.

ADDRESSES: The public hearing is being held in the IRS Auditorium, Internal Revenue Building, 1111 Constitution Avenue, NW., Washington, DC.

FOR FURTHER INFORMATION CONTACT: Concerning the regulations, K. Scott Brown (202) 622-7454; to notify the IRS that you plan to attend the hearing and to be placed on the building access list, Kelly Banks at (202) 622-0392 (not toll-free numbers).

SUPPLEMENTARY INFORMATION: On August 7, 2006, the Treasury Department and the IRS published in the Federal Register (71 FR 44600) proposed regulations § 1.1221-1(e), under section 1221(a)(4) of the Internal Revenue Code. These regulations clarify the circumstances in which accounts or notes receivable are “acquired * * * for services rendered” within the meaning of section 1221(a)(4). A public hearing was held on November 7, 2006, to discuss these regulations. Only two individuals spoke at the hearing.

Additional written comments were received from interested parties after the period for comments closed and the hearing was held. Several of these written comments contained requests for private meetings. Because it is more appropriate to address the concerns raised in the comments publicly, the Treasury Department and the IRS are scheduling a public hearing at which taxpayers will have another opportunity to discuss the proposed regulations. The views expressed at the hearing will be used in the rulemaking process.

Most of the written comments focused on the length of time that the decisions have been outstanding in Burbank Liquidating Corp. v. Commissioner, 39 T.C. 999 (1963), acq. sub. nom. United Assocs., Inc., 1965-1 C.B. 3, aff'd in part and rev'd in part on other grounds, 335 F.2d 125 (9th Cir. 1964), and Federal National Mortgage Association v. Commissioner, 100 T.C. 541 (1993). The Treasury Department and the IRS request participants at the forthcoming public hearing to focus on whether the interpretation in the proposed regulations is legally correct, and whether the decisions in Burbank Liquidating and Federal National Mortgage Association correctly applied section 1221(a)(4).

To attend the hearing, taxpayers must notify the IRS by Monday, July 23, 2007. Because of access restrictions, the IRS will not admit visitors beyond the immediate entrance area more than 30 minutes before the hearing. To notify the IRS that you plan to attend the hearing and for information about having your name placed on the building access list to attend the hearing, see the section in this document entitled FOR FURTHER INFORMATION CONTACT.

LaNita Van Dyke,
Chief, Publications and Regulations Branch, Associate Chief Counsel, Legal Processing Division (Procedure and Administration).

[FR Doc. E7-13255 Filed 7-6-07; 8:45 am]

BILLING CODE 4830-01-P